COMMITTEE FOR THE IMPLEMENTATION OF TEXTILE AGREEMENTS

Adjustment of Import Limits for Certain Cotton and Man-Made Fiber Textile Products Produced or Manufactured in Pakistan

May 8, 2001.

AGENCY: Committee for the Implementation of Textile Agreements (CITA).

ACTION: Issuing a directive to the Commissioner of Customs adjusting limits.

EFFECTIVE DATE: May 15, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://www.otexa.ita.doc.gov.

SUPPLEMENTARY INFORMATION:

Authority: Section 204 of the Agricultural Act of 1956, as amended (7 U.S.C. 1854); Executive Order 11651 of March 3, 1972, as amended.

The current limits are being adjusted for swing and carryforward.

A description of the textile and apparel categories in terms of HTS numbers is available in the CORRELATION: Textile and Apparel Categories with the Harmonized Tariff Schedule of the United States (see Federal Register notice 65 FR 82328, published on December 28, 2000). Also see 64 FR 66972, published on November 8, 2000.

J. Hayden Boyd,
Acting Chairman, Committee for the Implementation of Textile Agreements.

Committee for the Implementation of Textile Agreements

May 8, 2001.

Commissioner of Customs,

Department of the Treasury, Washington, DC 20229.

Dear Commissioner: This directive amends, but does not cancel, the directive issued to you on November 2, 2000, by the Chairman, Committee for the Implementation of Textile Agreements. That directive concerns imports of certain cotton and man-made fiber textile products, produced or manufactured in Pakistan and exported during the twelve-month period which began on January 1, 2001 and extends through December 31, 2001.

Effective on May 15, 2001, you are directed to adjust the limits for the following categories, as provided for under the Uruguay Round Agreement on Textiles and Clothing:

Category | Adjusted twelve-month limit ¹
Specific limits
226/313 | 126,621,838 square meters.
315 | 82,767,511 square meters.
317/617 | 45,789,691 square meters.
331/631 | 3,312,144 dozen pairs.
334/634 | 338,313 dozen.
335/635 | 519,772 dozen.
336/636 | 683,800 dozen.
338 | 6,492,127 dozen.
339 | 1,946,977 dozen.
340/640 | 865,319 dozen of which not more than 319,532 dozen shall be in Categories 340-D/640-D ².
341/641 | 1,025,699 dozen.
342/642 | 507,668 dozen.
347/348 | 1,139,302 dozen.
351/651 | 458,222 dozen.
352/652 | 1,203,572 dozen.
360 | 7,360,962 numbers.
361 | 8,559,257 numbers.
363 | 60,386,297 numbers.
369-F/369-P ³ | 3,244,944 kilograms.
369-R ⁴ | 15,955,319 kilograms.
369-S ⁵ | 1,049,238 kilograms.
615 | 34,472,347 square meters.
638/639 | 618,933 dozen.
647/648 | 1,173,474 dozen.
666-P ⁶ | 988,129 kilograms.
666-S ⁷ | 5,231,269 kilograms.

¹ The limits have not been adjusted to account for any imports exported after December 31, 2000.
² Category 340-D: only HTS numbers 6205.20.2015, 6205.20.2020, 6205.20.2025 and 6205.20.2030; Category 640-D: only HTS numbers 6205.30.2010, 6205.30.2020, 6205.30.2030, 6205.30.2040, 6205.90.3030 and 6205.90.4030.
³ Category 369-F: only HTS number 6302.91.0045; Category 369-P: only HTS numbers 6302.60.0010 and 6302.91.0005.
⁴ Category 369-R: only HTS number 6307.10.1020.
⁵ Category 369-S: only HTS number 6307.10.2005.
⁶ Category 666-P: only HTS numbers 6302.22.1010, 6302.22.1020, 6302.22.2010, 6302.32.1010, 6302.32.1020, 6302.32.2010 and 6302.32.2020.
⁷ Category 666-S: only HTS numbers 6302.22.1030, 6302.22.1040, 6302.22.2020, 6302.32.1030, 6302.32.1040, 6302.32.2030 and 6302.32.2040.

The Committee for the Implementation of Textile Agreements has determined that these actions fall within the foreign affairs exception of the rulemaking provisions of 5 U.S.C. 553(a)(1).

Sincerely,

J. Hayden Boyd,

Acting Chairman, Committee for the Implementation of Textile Agreements.

[FR Doc. 01-12056 Filed 5-11-01; 8:45 am]

BILLING CODE 3510-DR-F